FEDERAL HOUSING FINANCE BOARD

[No. 2001-N-7]

Proposed Collection; Comment Request

AGENCY: Federal Housing Finance Board.

ACTION: Notice.

SUMMARY: In accordance with the requirements of the Paperwork Reduction Act of 1995, the Federal Housing Finance Board (Finance Board) hereby gives notice that it is seeking public comments concerning a three-year extension by the Office of Management and Budget (OMB) of the previously approved information collection entitled “Federal Home Loan Bank Directors.”

DATES: Interested persons may submit comments on or before June 1, 2001.

ADDRESSES: Address written comments and requests for copies of the information collection to Elaine L. Baker, Secretary to the Board, 202/408-2837, bakere@fhfb.gov, Federal Housing Finance Board, 1777 F Street, NW., Washington, DC 20006.

FOR FURTHER INFORMATION CONTACT: Patricia L. Sweeney, Program Analyst, Program Assistance Division, Office of Policy, Research and Analysis, by telephone at 202/408-2872, by electronic mail at sweeneyp@fhfb.gov, or by regular mail to the Federal Housing Finance Board, 1777 F Street, NW., Washington, DC 20006.

SUPPLEMENTARY INFORMATION:

A. Need For and Use of Information Collection

Section 7 of the Federal Home Loan Bank Act (Bank Act) and the Federal Housing Finance Board's (Finance Board) implementing regulation establish the eligibility requirements and the procedures for electing and appointing Federal Home Loan Bank (FHLBank) directors. See 12 U.S.C. 1427; 12 CFR part 915. Under part 915 (formerly codified at 12 CFR part 932), the FHLBanks determine the eligibility of elective directors and director nominees and run the director election process. The Finance Board determines the eligibility of and selects all appointive directors. To determine director eligibility, the FHLBanks use the elective director eligibility certification form (Form E-1), and the Finance Board uses the appointive director eligibility certification form (Form A-1). Both forms permit individuals to certify that no changes have occurred since they last submitted required information rather than completing anew the entire form.

The Gramm-Leach-Bliley Act, Pub. L. 106-102, 133 Stat. 1338, 1453 (Nov. 12, 1999) amended section 7(a) of the Bank Act to provide that a director of an FHLBank must be either a bona fide resident of the FHLBank or an officer or director of a member located in the district. Accordingly, the Finance Board amended part 915, effective August 7, 2000, to address specifically the statutory change with regard to the term “bona fide resident” of an FHLBank district as it applies to elective directors. In effect, an elective director no longer needs to be a bona fide resident of the district if he or she is an officer or director of a member located in the district. The elective director eligibility certification form has been revised to reflect this change.

There is no statutory change in director eligibility as applied to appointive directors. Thus, an appointive director will continue to be considered a bona fide resident of the district if he or she maintains a principal residence within the district or owns or leases a residence in his or her own name within the district and also is employed within the district.

The Finance Board uses the information collection contained in the appointive director eligibility certification form and part 915 to determine whether prospective and incumbent appointive directors satisfy the statutory and regulatory eligibility and reporting requirements. Only individuals meeting these requirements may serve as appointive directors of the FHLBanks. See 12 U.S.C. 1427(a) and (f)(2).

The FHLBanks use the information collection in the elective director eligibility certification form and part 915 to determine whether elective directors and director nominees satisfy the statutory and regulatory eligibility and reporting requirements. Only individuals meeting these requirements may serve as elective directors of the FHLBanks. See 12 U.S.C. 1427(a), (b) and (f)(3).

The likely respondents include prospective and incumbent FHLBank directors.

The OMB number for the information collection is 3069-0002. The OMB clearance for the information collection expires on June 30, 2001.

A. Burden Estimate

The Finance Board estimates that the total annual average number of prospective appointive directors and incumbent appointive directors at 88, with 1 response per person. The estimate for the average hours per person is .35 hours. The Finance Board estimates the total annual average number of prospective elective directors and incumbent elective directors at 172, with 1 response per person. The estimate for the average hours per person is .35 hours. The estimate for the annual hour burden for prospective and incumbent directors is 91 hours.

The Finance Board estimates that the total annual average hour burden for each FHLBank to run a director election, to process and review prospective elective director and incumbent elective director forms, and to distribute and collect incumbent appointive director forms is 160 hours, with 1 response per person. The estimate for the average hour burden for all FHLBanks is 1,920 hours.

The Finance Board estimates that the total annual hour burden for FHLBank System membership participation in the director elections is 960 hours.

Comment Request

The Finance Board requests written comments on the following: (1) whether the collection of information is necessary for the proper performance of Finance Board and FHLBank functions, including whether the information has practical utility; (2) the accuracy of the Finance Board's estimates of the burden of the collection of information; (3) ways to enhance the quality, utility, and clarity of the information collected; and (4) ways to minimize the burden of the collection of information on respondents, including through the use of automated collection techniques or other forms of information technology.

Dated: March 23, 2001.
By the Federal Housing Finance Board.
James L. Bothwell,
Managing Director.

[FR Doc. 01-8043 Filed 3-30-01; 8:45 am]

BILLING CODE 6725-01-P